CORPORATION FOR NATIONAL AND COMMUNITY SERVICE

45 CFR Part 2543

Uniform Administrative Requirements for Grants and Agreements With Institutions of Higher Education, Hospitals, and Other Non-Profit Organizations

AGENCY: Corporation for National and Community Service.

ACTION: Interim final rule with request for comments.

SUMMARY: This interim final rule revises the Corporation's codification of Office of Management and Budget (OMB) Circular A-110, “Uniform Administrative Requirements for Grants and Agreements with Institutions of Higher Education, Hospitals, and Other Non-Profit Organizations.” OMB issued a final revision to Circular A-110 on September 30, 1999, as required by Public Law 105-277. It was published in the Federal Register on October 8, 1999. This interim final rule provides uniform administrative requirements for all grants and cooperative agreements to institutions of higher education, hospitals, and other non-profit organizations.

DATES: This interim final rule is effective October 5, 2000. Comments must be received on or before November 6, 2000.

ADDRESSES: Comments on the interim final rule should be addressed to: Bruce Cline, Director of Grants Management, Corporation for National Service, 1201 New York Avenue NW, Washington, D.C. 20525.

FOR FURTHER INFORMATION CONTACT: Bruce Cline, (202) 606-5000, ext. 440. T.D.D. (202) 565-2799. We will make this document available in an alternative format upon request.

SUPPLEMENTARY INFORMATION:

Background

Congress included a provision in OMB's appropriation for fiscal year 1999, contained in Public Law 105-277, directing OMB to amend Section .36 of Circular A-110 “to require Federal awarding agencies to ensure that all data produced under an award will be made available to the public through the procedures established under the Freedom of Information Act.” The provision also provides for a reasonable fee to cover the costs incurred in responding to a request. Circular A-110 applies to grants and cooperative agreements to institutions of higher education, hospitals, and non-profit organizations.

OMB finalized the revision on September 30, 1999 (64 FR 54926, October 8, 1999). This interim rule amends the Corporation's codification of Circular A-110 to reflect OMB's action.

Consistent with Circular A-110, this rule applies to awards made by the Corporation to institutions of higher education, hospitals, and other non-profit organizations. It also applies to such entities if they are recipients are subawards from States, and local and Indian Tribal governments administering programs under awards from the Corporation. This rule does not apply to commercial organizations.

Regulatory Matters

Executive Order 12866

Awards made by the Corporation support national service programs and do not generally involve the production of the type of research data described in the revised Circular A-110. We have determined that this interim final rule is not a “significant” rule within the meaning of Executive Order 12866 because it is not likely to result in: (1) An annual effect on the economy of $100 million or more, or an adverse and material effect on a sector of the economy, productivity, competition, jobs, the environment, public health or safety, or State, local, or tribal government or communities; (2) the creation of a serious inconsistency or interference with an action taken or planned by another agency; (3) a material alteration in the budgetary impacts of entitlement, grants, user fees, or loan programs or the rights and obligations of recipients thereof; or (4) the raising of novel legal or policy issues arising out of legal mandates, the President's priorities, or the principles set forth in Executive Order 12866.

Regulatory Flexibility Act

We have determined and hereby certify that this interim final rule will not result in (1) an annual effect on the economy of $100 million or more; (2) a major increase in costs or prices for consumers, individual industries, Federal, State, or local government agencies, or geographic regions; or (3) significant adverse effects on competition, employment, investment, productivity, innovation, or on the ability of United States-based enterprises to compete with foreign-based enterprises in domestic and export markets. Therefore, the Corporation has not performed the regulatory flexibility analyses that are required under the Regulatory Flexibility Act (5 U.S.C. 601 et seq.) for major rules that are expected to have such results.

Small Business Regulatory Enforcement Fairness Act of 1996

We have determined that this interim final rule will not result in an annual effect on the economy of $100 million or more; a major increase in costs or prices; or significant adverse effects on competition, employment, investment, productivity, innovation, or on the ability of United States-based companies to compete with foreign-based companies in domestic and export markets. Thus, it is not a major rule as defined by section 251 of the Small Business Regulatory Enforcement Fairness Act of 1996, 5 U.S.C. 804.

Other Impact Analyses

This interim final rule will not impose additional reporting or recordkeeping requirements under the Paperwork Reduction Act of 1995 (44 U.S.C. 3500 et seq.).

Because this interim final rule does not contain any federal mandate that may result in increased expenditures in either Federal, State, local, or tribal governments in the aggregate, or impose an annual burden exceeding $100 million on the private sector, it is not necessary for the Corporation to prepare the analytic statements required under Title II of the Unfunded Mandates Reform Act of 1995, 2 U.S.C. 1531-1538.

This interim final rule will not have substantial direct effects on the States, on the relationship between the national government and the States, or on the distribution of power and responsibilities among the various levels of government. Therefore, in accordance with section 8 of Executive Order 13132 (August 4, 1999), we have determined that this interim final rule does not have sufficient federalism implications to warrant the preparation of a federalism summary impact statement.

Based on the opportunities to comment afforded to the public on OMB-proposed revisions to Circular A-110, we have determined that soliciting additional comment prior to our adopting the revisions is unnecessary and contrary to the public interest. Therefore, pursuant to 5 U.S.C. 553(b)(B), we adopt the revisions through the issuance of this interim final rule.

List of Subjects in 45 CFR Part 2543

Accounting, Administrative practice and procedure, Colleges and universities, Grant programs—health, Grant programs—social, Grants administration, Hospitals, Nonprofit organizations, Reporting and recordkeeping requirements.

For the reasons stated in the preamble, the Corporation for National and Community Service amends 45 CFR part 2543 as follows:

PART 2543—GRANTS AND AGREEMENTS WITH INSTITUTIONS OF HIGHER EDUCATION, HOSPITALS, AND OTHER NON-PROFIT ORGANIZATIONS

1. The authority citation for part 2543 continues to read as follows:

Authority: 42 U.S.C. 12501 et seq.

2. Section 2543.36 is amended by revising paragraph (c), redesignating paragraph (d) as paragraph (e), and adding a new paragraph (d) to read as follows:

§ 2543.36 Intangible property.

* * * * *

(c) The Federal Government has the right to:

(1) Obtain, reproduce, publish or otherwise use the data first produced under an award; and

(2) Authorize others to receive, reproduce, publish, or otherwise use such data for Federal purposes.

(d)(1) In addition, in response to a Freedom of Information Act (FOIA) request for research data relating to published research findings produced under an award that were used by the Federal Government in developing an agency action that has the force and effect of law, the Federal awarding agency shall request, and the recipient shall provide, within a reasonable time, the research data so that they can be made available to the public through the procedures established under the FOIA. If the Federal awarding agency obtains the research data solely in response to a FOIA request, the agency may charge the requester a reasonable fee equaling the full incremental cost of obtaining the research data. This fee should reflect costs incurred by the agency, the recipient, and applicable subrecipients. This fee is in addition to any fees the agency may assess under the FOIA (5 U.S.C. 552(a)(4)(A)).

(2) The following definitions apply for purposes of this paragraph (d):

(i) Research data is defined as the recorded factual material commonly accepted in the scientific community as necessary to validate research findings, but not any of the following: preliminary analyses, drafts of scientific papers, plans for future research, peer reviews, or communications with colleagues. This “recorded” material excludes physical objects (e.g., laboratory samples). Research data also do not include:

(A) Trade secrets, commercial information, materials necessary to be held confidential by a researcher until they are published, or similar information which is protected under law; and

(B) Personnel and medical information and similar information the disclosure of which would constitute a clearly unwarranted invasion of personal privacy, such as information that could be used to identify a particular person in a research study.

(ii) Published is defined as either when:

(A) Research findings are published in a peer-reviewed scientific or technical journal; or

(B) A Federal agency publicly and officially cites the research findings in support of an agency action that has the force and effect of law.

(iii) Used by the Federal Government in developing an agency action that has the force and effect of law is defined as when an agency publicly and officially cites the research findings in support of an agency action that has the force and effect of law.

(3) The requirements set forth in paragraph (d)(1) of this section do not apply to commercial organizations.

* * * * *

Dated: August 24, 2000.
Wendy Zenker,
Chief Operating Officer.

[FR Doc. 00-22546 Filed 9-1-00; 8:45 am]

BILLING CODE 6050-28-P